DEPARTMENT OF HEALTH AND HUMAN SERVICES

National Institutes of Health

National Center for Complementary and Alternative Medicine Announcement of Meditation for Health Purposes Workshop

ACTION: Notice.

SUMMARY: The National Center for Complementary and Alternative Medicine (NCCAM) will convene a workshop on Meditation for Health Purposes. The goals of the workshop are to assess current knowledge and identify opportunities for future research on the mechanisms and efficacy of meditation practices for a variety of health concerns. This workshop will bring together experts in the fields of meditation practices, research design and methodology, physiological mechanisms, and affective and cognitive processes and outcomes. The meeting will draw on this expertise to elucidate relevant aspects that would best move the field of meditation research forward. The meeting will utilize a combination of short presentations, discussions, and breakout groups.

The Workshop will take place on July 8-9, 2008 in Bethesda, Maryland. Seating will be limited, and researchers in the relevant scientific fields are particularly encouraged to attend. Attendees should register by July 1, 2008 by visiting http://nccam.nih.gov/news/upcomingmeetings/.

Background: The National Center for Complementary and Alternative Medicine (NCCAM) was established in 1999 with the mission of exploring complementary and alternative healing practices in the context of rigorous science, training CAM researchers, and disseminating authoritative information to the public and professionals. NCCAM funds research grants that explore the science of CAM. For more information, see http://nccam.nih.gov/research/nccamfunds.htm.

FOR FURTHER INFORMATION CONTACT: To request more information, visit the NCCAM Web site at http://nccam.nih.gov/news/upcomingmeetings/, call 301-593-2800 (Jodi Mazel) or e-mail jmazel@lclmllc.com.

Dated: June 4, 2008.
Catherine Stoney,
Program Officer, National Center for Complementary and Alternative Medicine, National Institutes of Health.

[FR Doc. E8-13688 Filed 6-17-08; 8:45 am]

BILLING CODE 4140-01-P